DEPARTMENT OF COMMERCE

National Oceanic and Atmospheric Administration

[RTID 0648-XA120]

Pacific Fishery Management Council; Public Meeting

AGENCY: National Marine Fisheries Service (NMFS), National Oceanic and Atmospheric Administration (NOAA), Commerce.

ACTION: Notice of public online meeting.

SUMMARY: The Pacific Fishery Management Council's (Pacific Council) Habitat Committee (HC) and Salmon Technical Team will hold a meeting, which is open to the public.

DATES: The online meeting will be held Tuesday, May 12, 2020, at 9 a.m. Pacific Daylight Time, and will end at 10:30 a.m. on the same day.

ADDRESSES: This meeting will be held online. To attend the meeting: (1) Join the meeting by using this link: https://meetings.ringcentral.com/join; (2) enter the Meeting ID provided in the meeting announcement (see www.pcouncil.org) and click JOIN; (3) You will be prompted to either download the RingCentral meetings application or join the meeting without a download via your web browser; (4) enter your name and click JOIN; (5) You may connect to the audio portion of the meeting via “computer audio” using a headset or opt to dial into the meeting via telephone using the TOLL number (s) provided on the screen; and (6) Once connected, you will be in the meeting, seeing other participants and a shared screen, if applicable. Technical Information and System Requirements: PC-based attendees are required to use Windows® 10, 8; Mac®-based attendees are required to use Mac OS® X 10.5 or newer; Mobile attendees are required to use iPhone®, iPad®, Android™ phone or Android tablet (See the RingCentral mobile apps in your app store). You may send an email to Mr. Kris Kleinschmidt (kris.kleinschmidt@noaa.gov) or contact him at (503) 820-2280, extension 412 for technical assistance.

Council address: Pacific Fishery Management Council, 7700 NE Ambassador Place, Suite 101, Portland, OR 97220-1384.

FOR FURTHER INFORMATION CONTACT: Jennifer Gilden, Pacific Council; telephone: (503) 820-2418.

SUPPLEMENTARY INFORMATION: Major topics include, but are not limited to, discussing habitat-related limiting factors for Klamath River Fall Chinook and Sacramento River Fall Chinook that may have contributed to the overfished determination and considering a timeline and work plan for the HC to develop recommendations for Pacific Council consideration to address relevant issues. Public comments during the webinar will be received from attendees at the discretion of the HC Chair.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: April 15, 2020.
Tracey L. Thompson,
Acting Deputy Director, Office of Sustainable Fisheries, National Marine Fisheries Service.

[FR Doc. 2020-08263 Filed 4-17-20; 8:45 am]

BILLING CODE 3510-22-P